ENVIRONMENTAL PROTECTION AGENCY

40 CFR Parts 51 and 52

[EPA-HQ-OAR-2006-0903; FRL-8286-8]

Public Hearings and Submission of Plans

AGENCY: Environmental Protection Agency (EPA).

ACTION: Proposed rule.

SUMMARY: EPA is proposing changes to EPA's regulations specifying the public hearing requirements for State Implementation Plan (SIP) submissions, identifying the method for submission of SIPs and preliminary review of plans; and revising the criteria for determining the completeness of plan submissions requirements to reflect the changes to the public hearing and plan submission requirements. EPA is also making administrative changes to update the addresses to several Regional offices. These proposed revisions will modify when state agencies are required to hold public hearings, modify the number of hard copies of SIP submissions required to be submitted to the Regional office and the administrative portion of the completeness criteria for plan submissions.

DATES: Comments must be received on or before April 12, 2007.

ADDRESSES: Submit your comments, identified by Docket ID No. EPA-HQ-OAR-2006-0903 by one of the following methods:

1. http://www.regulations.gov. Follow the on-line instructions for submitting comments.

2. E-mail: lakeman.sean@epa.gov.

3. Fax: 404-562-9019.

4. Mail: “EPA-HQ-OAR-2006-0903”, Regulatory Development Section, Air Planning Branch, Air, Pesticides and Toxics Management Division, U.S. Environmental Protection Agency, Region 4, 61 Forsyth Street, SW., Atlanta, Georgia 30303-8960.5.

5. Hand Delivery: Sean Lakeman, Regulatory Development Section, Air Planning Branch, Air, Pesticides and Toxics Management Division 12th floor, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Instructions: Direct your comments to Docket ID No. EPA-HQ-OAR-2006-0903. The EPA's policy is that all comments received will be included in the public docket without change and may be made available online at http://www.regulations.gov, including any personal information provided, unless the comment includes information claimed to be Confidential Business Information (CBI) or other information whose disclosure is restricted by statute. Do not submit information that you consider to be CBI or otherwise protected through regulations.gov, or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to unit I.B of the SUPPLEMENTARY INFORMATION section of this preamble.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 to 4:30, excluding Federal holidays.

FOR FURTHER INFORMATION CONTACT: For general questions concerning today's rule, please contact Sean Lakeman, Regulatory Development Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: The information presented in this preamble is organized as follows:

I. General Information

II. Background

III. Proposed Actions

IV. Administrative Changes

V. Statutory and Executive Order Reviews

I. General Information

A. Does This Action Apply to Me?

The proposed revisions will modify the public hearing requirements for SIPs. The proposed revision will also modify the number of hard copies States are required to submit to the Regional office. We are also proposing to revise the administrative portion of the completeness criteria to reflect the changes to the public hearing and plan submission requirements. These actions may affect anyone wanting to participate in the rulemaking process. If you have any questions regarding the applicability of this rule to a particular entity, consult the person listed in the preceding FOR FURTHER INFORMATION CONTACT section.

B. What Should I Consider as I Prepare My Comments for EPA?

1. Expedited Review. To expedite review of your comments by Agency staff, you are encouraged to send a separate copy of your comments, in addition to the copy you submit to the official docket, to: Sean Lakeman, Regulatory Development Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

2. Submitting CBI. Do not submit CBI to EPA through http://www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2. Send or deliver information identified as CBI only to the following address Sean Lakeman, Regulatory Development Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov. Attention Docket ID No. EPA-HQ-OAR-2006-0903.

3. Tips for preparing your comments. When submitting comments, remember to:

i. Identify the rulemaking by docket number and other identifying information (subject heading, Federal Register date and page number).

ii. Follow directions—The agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow it to be reproduced.

vi. Provide specific examples to illustrate your concerns, and suggest alternatives.

vii. Explain your views as clearly as possible, avoiding the use of profanity or personal threats.

viii. Make sure to submit your comments by the comment period deadline identified.

II. Background

Today, EPA is proposing to change the requirements of 40 CFR 51.102, 51.103 and Appendix V to Part 51. In addition, we are making administrative changes to 40 CFR 52.02 and 52.16 to update the addresses for several of the EPA Regional offices.

The Clean Air Act (CAA) provides that each revision to an SIP submitted by a State must be adopted by such State “after reasonable notice and public hearing.” EPA's regulations on public hearings in 40 CFR 51.102(a) state “Except as otherwise provided in paragraph (c) of this section, States must conduct one or more public hearings on the following prior to adoption and submission to EPA.” The completeness criteria indicate that a complete submission must include “Evidence that public notice was given of the proposed change consistent with procedures approved by EPA, including the date of publication of such notice” and “Certification that public hearings(s) were held in accordance with the information provided in the public notice and the State's laws and constitution, if applicable.” 40 CFR part 51, appendix V (2.1)(f) and (g). Following these public hearing requirements, states hold public hearings on any revision to a SIP, no matter how minor or noncontroversial and these hearings consume both valuable time and resources, whether or not the public participates in these hearings.

Forty CFR 51.103(a) and (b) require states to submit “five copies of the plan to the appropriate Regional Office.” The completeness criteria in Appendix V(2.1)(d) of part 51 provide that a complete submission must include “indication of the changes made to the existing approved plan, where applicable.” Since the time these regulations were promulgated, electronic access to documents has become readily available and there is no longer the same need for the State to provide multiple printed copies of the submitted plan. We are proposing to revise these regulations to allow the Regions and the States flexibility to determine the number of printed and electronic copies of the plan submission necessary to ensure full public access to the submitted plan (including identification of the changes made) and to allow the agency to review the plan for approvability.

Since the promulgation of 40 CFR 52.02 and 52.16, the Region 3, Region 4, Region 7 and Region 8 offices have relocated and EPA is revising these sections to reflect the correct addresses for these Regional offices.

III. Proposed Actions

(1) Section 51.102 Public Hearings

Section 51.102(a) currently states “Except as otherwise provided in paragraph (c) of this section, States must conduct one or more public hearings on the following prior to adoption and submission to EPA of:” EPA proposes to revise this section to read “Except as otherwise provided in paragraph (c) of this section and within the 30 day notification period as required by paragraph (d) of this section, States must provide notice, provide the opportunity to submit written comments and allow the public the opportunity to request a public hearing. The State must hold a public hearing or provide the public the opportunity to request a public hearing by including the date, place and time of hearing in the notice announcing the 30 day notification period. If the State provides the public the opportunity to request a public hearing and a request is received the State must hold the scheduled hearing. If no request for a public hearing is received during the 30 day notification period and the original notice announcing the 30 day notification period clearly states that if no request for a public hearing is received the hearing will be cancelled, then the public hearing may be cancelled. These requirements apply for adoption and submission to EPA of:”

The current regulation as written requires states to hold public hearings for any revision to SIPs. States currently hold public hearings whether or not the public attends and participates in these hearings. Many of these plan revisions are minor or noncontroversial in nature and no member of the public or the regulated community attends or participates in the hearing. These hearings consume both valuable time and resources. Rather than requiring a public hearing for all SIP revisions, the proposed revision will allow states to determine those actions for which there may be little or no interest by the public or the regulated community and, for those actions, to provide the public the opportunity to request a public hearing. If no request for public hearing is made, then the State would have fulfilled the requirements of 51.102(a) and no public hearing is required to be held.

Whether or not a public hearing is held, the State is required to provide a 30-day period for the written submission of comments from the public.

The proposed rule change defines the minimum requirements for satisfying the “after reasonable notice and public hearing” or “after public notice and opportunity for public hearing” requirements of the CAA. With today's multiple means of communication available to the public, EPA believes this rule revision will have no affect on public participation in the rulemaking process, but will help state agencies reduce costs by not needing to pay for facilities for public hearings for which no one is interested in attending and participating. In addition, it will increase efficiency by allowing limited staff resources to be devoted to productive activities rather than staffing a hearing that is not attended.

Section 51.102(f) currently states “The State must submit with the plan, revision, or schedule a certification that the hearing required by paragraph (a) of this section was held in accordance with the notice required by paragraph (d) of this section.” EPA proposes to revise this section to read “The State must submit with the plan, revision, or schedule, a certification that the requirements in paragraph (a) and (d) of this section were met. Such certification will include the date and place of any public hearing (s) held or that no public hearing was requested during the 30 day notification period.”

The purpose of this revision is to eliminate the reference to public hearings in light of the proposed revision to allow the State to provide the opportunity for a public hearing. Thus, we are simplifying the language to provide the State must certify that it has met the public hearing and public notification requirements of section 51.102(a) and (d).

(2) Section 51.103 Submission of Plans, Preliminary Review of Plans

Section 51.103(a) currently states “The State makes an official plan submission to EPA only when the submission conforms to the requirements of appendix V to this part, and the State delivers five copies of the plan to the appropriate Regional Office, with a letter giving notice of such action.” And Section 51.103(b) currently states “Upon request of a State, the Administrator will provide preliminary review of a plan or portion thereof submitted in advance of the date such plan is due. Such requests must be made in writing to the appropriate Regional Office and must be accompanied by five copies of the materials to be reviewed. Requests for preliminary review do not relieve a State of the responsibility of adopting and submitting plans in accordance with prescribed due dates.”

EPA is proposing to revise section 51.103(a) to read “The State makes an official plan submission to EPA only when the submission conforms to the requirements of appendix V to this part, and the State delivers five hard copies or at least two hard copies with an electronic version of the hard copy (unless otherwise agreed to by the State and Regional Office) of the plan to the appropriate Regional Office, with a letter giving notice of such action. If the State submits an electronic copy, it must be an exact duplicate of the hard copy.”

EPA is proposing to revise section 51.103(b) to read “Upon request of a State, the Administrator will provide preliminary review of a plan or portion thereof submitted in advance of the date such plan is due. Such requests must be made in writing to the appropriate Regional Office, must indicate changes (such as, redline/strikethrough) to the existing approved plan, where applicable and must be accompanied by five hard copies or at least two hard copies with an electronic version of the hard copy (unless otherwise agreed to by the State and Regional Office). Requests for preliminary review do not relieve a State of the responsibility of adopting and submitting plans in accordance with prescribed due dates.” These proposed revisions establish the minimum required number of electronic and hard copies to be submitted with all official submittals or preliminary requests for EPA review.

With today's use of electronic processing and the use of the internet these revisions align the regulatory requirements with the way States and EPA interact and with the way information is made available to the public. Rulemaking dockets are now available electronically, providing greater access to the public because there are no geographic or time limits on where or when documents may be obtained. Previously, when the dockets were comprised solely of hard copies of documents, the public needed to travel to specified locations to review the docket and the docket was available only during business hours. These revisions will reduce costs for States but will not interfere with the public's access to SIP revisions being reviewed by EPA. Rather, as described above, the availability of electronic files simplifies access for the public.

(3) Appendix V of Part 51—Criteria for Determining the Completeness of Plan Submissions

The completeness criteria in Appendix V identify the minimum elements needed for a SIP to be determined complete and thus to be reviewed for approvability. We are proposing to revise the completeness criteria to conform to the revisions above regarding public hearing requirements and official plan submissions.

To be complete, paragraph 2.1(d) of the completeness criteria, currently require that the submission include “A copy of the actual regulation, or document submitted for approval and incorporation by reference into the plan, including indication of the changes made to the existing approved plan, where applicable. The submittal shall be a copy of the official State regulation/document signed, stamped, dated by the appropriate State official indicating that it is fully enforceable by the State. The effective date of the regulation/document shall, whenever possible, be indicated in the document itself.” EPA is proposing to revise this paragraph to include the underlined language: “A copy of the actual regulation, or document submitted for approval and incorporation by reference into the plan, including indication of the changes made (such as, redline/strikethrough) to the existing approved plan, where applicable. The submittal shall be a copy of the official State regulation/ document signed, stamped and dated by the appropriate State official indicating that it is fully enforceable by the State. The effective date of the regulation/document shall, whenever possible, be indicated in the document itself. If the State submits an electronic copy, it must be an exact duplicate of the hard copy with changes indicated, signed documents need to be in portable document format, rules need to be in text format and files need to be submitted in manageable amounts (e.g., a file for each section or chapter, depending on size, and separate files for each distinct document) unless otherwise agreed to by the State and Regional Office.”

Paragraph 2.1(g) currently states that a complete plan must include:

“Certification that public hearings(s) were held in accordance with the information provided in the public notice and the State's laws and constitution, if applicable.” EPA proposes to revise paragraph (g) to read “Certification that public hearing(s) were held in accordance with the information provided in the public notice and the State's laws and constitution, if applicable and consistent with the public hearing requirements in 40 CFR 51.102.”

IV. Administrative Changes

Since the promulgation of 40 CFR 52.02 and 52.16 EPA Regional Offices 3, 4, 7 and 8 have relocated. EPA is making the following revision to 40 CFR 52.02 and 52.16 to provide the public with the current addresses of Regions 3, 4, 7 and 8 offices.

40 CFR 52.02(d)(2)(iii) currently states “Delaware, District of Columbia, Pennsylvania, Maryland, Virginia, and West Virginia. Environmental Protection Agency, Region 3, 841 Chestnut Building, Philadelphia, PA 19107.” EPA is revising the address for Region 3 to read “Delaware, District of Columbia, Pennsylvania, Maryland, Virginia, and West Virginia. Environmental Protection Agency, Region 3, 1650 Arch Street, Philadelphia, PA 19103-2029.” and 40 CFR 52.16(b)(3) currently states “Delaware, District of Columbia, Pennsylvania, Maryland, Virginia, and West Virginia. EPA Region 3, 841 Chestnut Building, Philadelphia, PA 19107.” EPA is revising the address for Region 3 to read “Delaware, District of Columbia, Pennsylvania, Maryland, Virginia, and West Virginia. EPA Region 3, 1650 Arch Street, Philadelphia, PA 19103-2029.”

Section 52.02(d)(2)(iv) currently states “Alabama, Florida, Georgia, Kentucky, Mississippi, North Carolina, South Carolina, and Tennessee Environmental Protection Agency, Region 4, 345 Courtland Street, N.E., Atlanta, GA 30365.” EPA is revising the address for Region 4 to read “Alabama, Florida, Georgia, Kentucky, Mississippi, North Carolina, South Carolina, and Tennessee. Environmental Protection Agency, Region 4, 61 Forsyth Street, Atlanta, Georgia 30303.” and Section 52.16(b)(4) currently states “Alabama, Florida, Georgia, Kentucky, Mississippi, North Carolina, South Carolina, and Tennessee. EPA Region 4, 345 Courtland Street, NE., Atlanta, GA 30365.” EPA is revising the address for Region 4 to read “Alabama, Florida, Georgia, Kentucky, Mississippi, North Carolina, South Carolina, and Tennessee. EPA Region 4, 61 Forsyth Street, Atlanta, Georgia 30303.”

40 CFR 52.02(d)(2)(vii) currently states “Iowa, Kansas, Missouri, and Nebraska. Environmental Protection Agency, Region 7, 726 Minnesota Avenue, Kansas City, KS 66101.” EPA is revising the address for Region 7 to read “Iowa, Kansas, Missouri, and Nebraska. Environmental Protection Agency, Region 7, 901 North 5th Street, Kansas City, KS 66101.” and 40 CFR 52.16(b)(7) currently states “Iowa, Kansas, Missouri, and Nebraska. EPA Region 7, 726 Minnesota Avenue, Kansas City, KS 66101.” EPA is revising the address for Region 7 to read “Iowa, Kansas, Missouri, and Nebraska. EPA Region 7, 901 North 5th Street, Kansas City, KS 66101.”

40 CFR 52.02(d)(2)(viii) currently states “Colorado, Montana, North Dakota, South Dakota, Utah, and Wyoming. Environmental Protection Agency, Region 8, 999 18th Street, Suite 500, Denver, CO 80202-2466.” EPA is revising the address for Region 8 to read “Colorado, Montana, North Dakota, South Dakota, Utah, and Wyoming. Environmental Protection Agency, Region 8, 1595 Wynkoop Street, Denver, CO 80202-1129.” and 40 CFR 52.16(b)(8) currently states “Colorado, Montana, North Dakota, South Dakota, Utah, and Wyoming. EPA, Region 8, 999 18th Street, Suite 500, Denver, CO 80202-2466.” EPA is revising the address for Region 8 to read “Colorado, Montana, North Dakota, South Dakota, Utah, and Wyoming. EPA, Region 8, 1595 Wynkoop Street, Denver, CO 80202-1129.”

IV. Statutory and Executive Order Reviews

A. Executive Order 12866: Regulatory Planning and Review

Under Executive Order 12866 (58 FR 51735, October 4, 1993), EPA must determine whether the regulatory action is “significant” and, therefore, subject to the Office of Management and Budget (OMB) review and the requirements of the Executive Order. The order defines “significant regulatory action” as one that is likely to result in a rule that may: (1) Have an annual effect on the economy of $100 million or more or adversely affect in a material way the economy, a sector of the economy, productivity, competition, jobs, the environment, public health or safety, or State, local, or Tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in the Executive Order. Pursuant to the terms of Executive Order 12866, it has been determined that the proposed rule is not a “significant regulatory action” because none of the above factors applies. As such, this proposed rule was not formally submitted to OMB for review.

B. Paperwork Reduction Act

This rule does not impose an information collection burden under the provisions of the Paperwork Reduction Act, 44 U.S.C. 3501 et seq. This proposed rule only modifies the public hearing requirements for SIPs by clarifying that public hearings need only be held when requested by the public rather than automatically and provides a less costly alternative to the pre-existing requirement to submit five printed copies of each SIP revision. The present proposed rule does not establish any new information collection burden apart from that required by law. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedures Act or any other statute unless the agency certifies the rule will not have a significant economic impact on a substantial number of small entities. Small entities include small businesses, small organizations, and small governmental jurisdictions. For purposes of assessing the impacts of today's proposed rule on small entities, small entity is defined as: (1) A small business that is a small industrial entity as defined in the U.S. Small Business Administration (SBA) size standards (See 13 CFR 121.); (2) a small governmental jurisdiction that is a government of a city, county, town, school district or special district with a population of less than 50,000; and (3) a small organization that is any not-for-profit enterprise which is independently owned and operated and is not dominant in its field. This proposed rule only modifies the public hearing requirements for SIPs by clarifying that public hearings need only be held when requested by the public rather than automatically and provides a less costly alternative to the pre-existing requirement to submit five printed copies of each SIP revision. After considering the economic impacts of today's proposed rule on small entities, I certify that this rule will not have a significant economic impact on a substantial number of small entities.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation to why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements. Today's proposed rule does not include a Federal mandate within the meaning of UMRA that may result in expenditures of $100 million or more in any one year by either State, local, or Tribal governments in the aggregate or to the private sector, and therefore, is not subject to the requirements of sections 202 and 205 of the UMRA. This proposed rule only modifies the public hearing requirements for SIPs by clarifying that public hearings need only be held when requested by the public rather than automatically and provides a less costly alternative to the pre-existing requirement to submit five printed copies of each SIP revision.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.” This proposed rule only modifies the public hearing requirements for SIPs by clarifying that public hearings need only be held when requested by the public rather than automatically and provides a less costly alternative to the pre-existing requirement to submit five printed copies of each SIP revision. This proposed rule will not modify the relationship of the States and EPA for purposes of developing programs to implement the NAAQS. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” This proposed rule does not have “Tribal implications” as specified in Executive Order 13175. This proposed rule only modifies the public hearing requirements for SIPs by clarifying that public hearings need only be held when requested by the public rather than automatically and provides a less costly alternative to the pre-existing requirement to submit five printed copies of each SIP revision. The Clean Air Act and the Tribal Authority Rule establish the relationship of the Federal Government and Tribes in developing plans to attain the NAAQS, and this rule does nothing to modify that relationship.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health or safety risk that EPA has reason to believe may have disproportionate effect on children. If the regulatory action meets both criteria, the Agency must evaluate the environmental health or safety effects of the planned rule on children, and explain why the planned regulation is preferable to other potentially effective and reasonably feasible alternatives considered by the Agency. This proposed rule only modifies the public hearing requirements for SIPs by clarifying that public hearings need only be held when requested by the public rather than automatically and provides a less costly alternative to the pre-existing requirement to submit five printed copies of each SIP revision. The proposed rule is not subject to Executive Order 13045 because it is not economically significant as defined in E.O. 12866, and because the Agency does not have reason to believe the environmental health risks or safety risks addressed by this rule present a disproportionate risk to children.

H. Executive Order 13211: Actions That Significantly Affect Energy Supply, Distribution, or Use

This rule is not subject to Executive Order 13211, “Actions That Significantly Affect Energy Supply, Distribution, or Use,” (66 FR 28355, May 22, 2001) because it is not a significant regulatory action under Executive Order 12866.

I. National Technology Transfer Advancement Act

Section 12(d) of the National Technology Transfer Advancement Act of 1995 (NTTAA), Public Law 104-113, section 12(d) (15 U.S.C. 272 note) directs EPA to use voluntary consensus standards (VCS) in its regulatory activities unless to do so would be inconsistent with applicable law or otherwise impractical. Voluntary consensus standards are technical standards (e.g., materials specifications, test methods, sampling procedures, and business practices) that are developed or adopted by VCS bodies. The NTTAA directs EPA to provide Congress, through OMB, explanations when the Agency decides not to use available and applicable VCS. This rule does not involve technical standards. Therefore, EPA did not consider the use of any VCS.

List of Subjects in 40 CFR Parts 51 and 52

Environmental protection, Administrative practice and procedure, Air pollution control, Carbon monoxide, Intergovernmental relations, Lead, Nitrogen dioxide, Ozone, Particulate matter, Reporting and recordkeeping requirements, Sulfur oxides, Transportation, Volatile organic compounds.

Dated: March 7, 2007.
Stephen L. Johnson,
Administrator.

In consideration of the foregoing, the Environmental Protection Agency proposes to amend 40 CFR parts 51 and 52 as follows:

PART 51—[AMENDED]

1. The authority citation for part 51 continues to read as follows:

Authority: 23 U.S.C. 101; 42 U.S.C. 7401-7641q.

2. Section 51.102 is amended by revising paragraphs (a) introductory text and (f) to read as follows:

§ 51.102 Public hearings.

(a) Except as otherwise provided in paragraph (c) of this section and within the 30 day notification period as required by paragraph (d) of this section, States must provide notice, provide the opportunity to submit written comments and allow the public the opportunity to request a public hearing. The State must hold a public hearing or provide the public the opportunity to request a public hearing by including the date, place and time of hearing in the notice announcing the 30 day notification period. If the State provides the public the opportunity to request a public hearing and a request is received the State must hold the scheduled hearing. If no request for a public hearing is received during the 30 day notification period and the original notice announcing the 30 day notification period clearly states that if no request for a public hearing is received the hearing will be cancelled, then the public hearing may be cancelled. These requirements apply for adoption and submission to EPA of:

* * * * *

(f) The State must submit with the plan, revision, or schedule, a certification that the requirements in paragraph (a) and (d) of this section were met. Such certification will include the date and place of any public hearing(s) held or that no public hearing was requested during the 30 day notification period.

* * * * *

3. Section 51.103 is revised to read as follows:

§ 51.103 Submission of plans, preliminary review of plans.

(a) The State makes an official plan submission to EPA only when the submission conforms to the requirements of appendix V to this part, and the State delivers five hard copies or at least two hard copies with an electronic version of the hard copy (unless otherwise agreed to by the State and Regional Office) of the plan to the appropriate Regional Office, with a letter giving notice of such action. If the State submits an electronic copy, it must be an exact duplicate of the hard copy.

(b) Upon request of a State, the Administrator will provide preliminary review of a plan or portion thereof submitted in advance of the date such plan is due. Such requests must be made in writing to the appropriate Regional Office, must indicate changes (such as, redline/strikethrough) to the existing approved plan, where applicable and must be accompanied by five hard copies or at least two hard copies with an electronic version of the hard copy (unless otherwise agreed to by the State and Regional Office). Requests for preliminary review do not relieve a State of the responsibility of adopting and submitting plans in accordance with prescribed due dates.

4. Appendix V to Part 51 is amended by revising paragraphs (d) and (g) under Section 2.1 to read as follows:

Appendix V of Part 51—Criteria for Determining the Completeness of Plan Submissions

* * * * *

2.1. * * *

(d) A copy of the actual regulation, or document submitted for approval and incorporation by reference into the plan, including indication of the changes made (such as, redline/strikethrough) to the existing approved plan, where applicable. The submittal shall be a copy of the official State regulation/document signed, stamped and dated by the appropriate State official indicating that it is fully enforceable by the State. The effective date of the regulation/document shall, whenever possible, be indicated in the document itself. If the State submits an electronic copy, it must be an exact duplicate of the hard copy with changes indicated, signed documents need to be in portable document format, rules need to be in text format and files need to be submitted in manageable amounts (e.g., a file for each section or chapter, depending on size, and separate files for each distinct document) unless otherwise agreed to by the State and Regional Office.

* * * * *

(g) Certification that public hearing(s) were held in accordance with the information provided in the public notice and the State's laws and constitution, if applicable and consistent with the public hearing requirements in 40 CFR 51.102.

* * * * *

PART 52—[AMENDED]

5. The authority citation for part 52 continues to read as follows:

Authority: 42 U.S.C. 7401, et seq.

6. Section 52.02 is amended by revising paragraphs “(d)(2)(iii)”, “(d)(2)(iv)”, “(d)(2)(vii)”, and “(d)(2)(viii)” to read as follows:

§ 52.02 Introduction.

* * * * *

(d) * * *

(2) * * *

(iii) Delaware, District of Columbia, Pennsylvania, Maryland, Virginia, and West Virginia. Environmental Protection Agency, Region 3, 1650 Arch Street, Philadelphia, PA 19103-2029.

(iv) Alabama, Florida, Georgia, Kentucky, Mississippi, North Carolina, South Carolina, and Tennessee. Environmental Protection Agency, Region 4, 61 Forsyth Street, Atlanta, Georgia 30303.

* * * * *

(vii) Iowa, Kansas, Missouri, and Nebraska. Environmental Protection Agency, Region 7, 901 North 5th Street, Kansas City, KS 66101.

(viii) Colorado, Montana, North Dakota, South Dakota, Utah, and Wyoming. Environmental Protection Agency, Region 8, 1595 Wynkoop Street, Denver, CO 80202-1129.

* * * * *

7. Section 52.16 is amended by revising paragraphs “(b)(3)”, “(b)(4)”, “(b)(7)” and “(b)(8)” to read as follows:

§ 52.16 Submission to administrator.

* * * * *

(b) * * *

(3) Delaware, District of Columbia, Pennsylvania, Maryland, Virginia, and West Virginia. EPA Region 3, 1650 Arch Street, Philadelphia, PA 19103-2029.

(4) Alabama, Florida, Georgia, Kentucky, Mississippi, North Carolina, South Carolina, and Tennessee. EPA Region 4, 61 Forsyth Street, Atlanta, Georgia 30303.

* * * * *

(7) Iowa, Kansas, Missouri, and Nebraska. EPA Region 7, 901 North 5th Street, Kansas City, KS 66101.

(8) Colorado, Montana, North Dakota, South Dakota, Utah, and Wyoming. EPA, Region 8, 1595 Wynkoop Street, Denver, CO 80202-1129.

* * * * *

[FR Doc. E7-4563 Filed 3-12-07; 8:45 am]

BILLING CODE 6560-50-P